FEDERAL COMMUNICATIONS COMMISSION

47 CFR Part 73

[DA 01-2988; MM Docket No. 01-110; RM-9927, RM-10336]

Radio Broadcasting Services; Newberry and Simpsonville, SC

AGENCY: Federal Communications Commission.

ACTION: Final rule.

SUMMARY: The Commission, at the request of Georgia-Carolina Radiocasting Company, LLC, reallots Channel 292C3 from Newberry to Simpsonville, South Carolina, and modifies Station WGVC(FM)'s construction permit accordingly (RM-10336). We also dismiss petitioner's original proposal to downgrade Channel 292C3 to Channel 292A at Newberry, reallot Channel 292A to Simpsonville, and modify Station WGVC(FM)'s construction permit accordingly (RM-9927). See 66 FR 29747, June 1, 2001. Channel 292C3 can be reallotted to Simpsonville in compliance with the Commission's minimum distance separation requirements with a site restriction of 15.8 kilometers (9.8 miles) southeast at petitioner's requested site. The coordinates for Channel 292C3 at Simpsonville are 34-39-04 North Latitude and 82-07-12 West Longitude.

DATES: Effective February 4, 2002.

FOR FURTHER INFORMATION CONTACT: Sharon P. McDonald, Mass Media Bureau, (202) 418-2180.

SUPPLEMENTARY INFORMATION: This is a synopsis of the Commission's Report and Order, MM Docket No. 01-110, adopted December 12, 2002, and released December 21, 2002. The full text of this Commission decision is available for inspection and copying during normal business hours in the FCC Reference Information Center (Room CY-A257), 445 12th Street, SW, Washington, DC. The complete text of this decision may also be purchased from the Commission's copy contractors, Qualex International, Portals II, 445 12th Street, SW., Room CY-B402, Washington, DC 20554.

List of Subjects in 47 CFR Part 73

Radio broadcasting.

Part 73 of title 47 of the Code of Federal Regulations is amended as follows:

PART 73—RADIO BROADCAST SERVICES

1. The authority citation for part 73 continues to read as follows:

Authority: 47 U.S.C. 154, 303, 334, and 336.

§ 73.202 [Amended]

2. Section 73.202(b), the Table of FM Allotments under South Carolina, is amended by adding Simpsonville, Channel 292C3; and by removing Newberry, Channel 292C3.

Federal Communications Commission.
John A. Karousos,
Chief, Allocations Branch, Policy and Rules Division, Mass Media Bureau.

[FR Doc. 02-373 Filed 1-7-02; 8:45 am]

BILLING CODE 6712-01-P